DEPARTMENT OF DEFENSE

Office of the Secretary

[Transmittal No. 20-53]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-53 with attached Policy Justification and Sensitivity of Technology.

Dated: January 8, 2021.
Aaron T. Siegel,
Alternate OSD Federal Register Liaison Officer, Department of Defense.

BILLING CODE 5001-06-P

BILLING CODE 5001-06-C

Transmittal No. 20-53

Notice of Proposed Issuance of Letter of Offer Pursuant to Section 36(b)(1) of the Arms Export Control Act, as amended

(i) Prospective Purchaser: Government of Kuwait

(ii) Total Estimated Value:

Major Defense Equipment * | $ 0 million
Other | $200 million
TOTAL | $200 million

(iii) Description and Quantity or Quantities of Articles or Services under Consideration for Purchase: The Government of Kuwait has requested to buy spare parts to support its upgraded Patriot systems.

Major Defense Equipment (MDE): None

Non-MDE: Included is one (1) set of Authorized Stockage List (ASL), Prescribed Load List (PLL) and Higher Headquarters Battery (HHB) spare parts; one (1) set of Authorized Stockage List (ASL), Prescribed Load List (PLL) and Higher Headquarters Battery (HHB) spare parts; one (1) set of Fixed Site Antenna Mast Group (ATG)/Information and Coordination Central (ICC) Tethered Manstation Kit (ITMK) spare parts, transportation, organizational equipment, support equipment, tools and test equipment, technical data and publications, personnel training and training equipment, maintenance services, U.S. government and contractor engineering, technical, and logistics support services, and other related elements of logistical and program support.

(iv) Military Department: Army (KU-B-UXG)

(v) Prior Related Cases, if any: KU-B-ULV, KU-B-UXI, KU-B-UXS, KU-B-UXH

(vi) Sales Commission, Fee, etc., Paid, Offered, or Agreed to be Paid: None

(vii) Sensitivity of Technology Contained in the Defense Article or Defense Services Proposed to be Sold: See Attached Annex

(viii) Date Report Delivered to Congress: December 28, 2020

* As defined in Section 47(6) of the Arms Export Control Act.

POLICY JUSTIFICATION

Kuwait—System Spares for Patriot Configuration 3+

The Government of Kuwait has requested to buy spare parts to support their upgraded Patriot systems. Included is one (1) set of Authorized Stockage List (ASL), Prescribed Load List (PLL) and Higher Headquarters Battery (HHB) spare parts; one (1) set of Authorized Stockage List (ASL), Prescribed Load List (PLL) and Higher Headquarters Battery (HHB) spare parts; one (1) set of Fixed Site Antenna Mast Group (ATG)/Information and Coordination Central (ICC) Tethered Manstation Kit (ITMK) spare parts, transportation, organizational equipment, support equipment, tools and test equipment, technical data and publications, personnel training and training equipment, maintenance services, U.S. government and contractor engineering, technical, and logistics support services, and other related elements of logistical and program support. The total estimated program cost is $200 million.

The proposed sale will support the foreign policy and national security of the United States by helping to improve the security of a Major Non-NATO Ally that is an important force for political stability and economic progress in the Middle East.

The proposed sale of these spare parts for Kuwait's Patriot System will improve Kuwait's capability to meet current and future threats and provide greater security for critical civilian and military infrastructure. The procurement of these spare parts represents a commitment by Kuwait to field and maintain systems that are interoperable with U.S. forces. Kuwait will have no difficulty absorbing this equipment and support into its armed forces.

The proposed sale of this equipment and support will not alter the basic military balance in the region.

The principal contractor will be Raytheon Missile Systems, Waltham, MA. There are no known offset agreements proposed in connection with this potential sale.

Implementation of this proposed sale will not require the assignment of any additional U.S. Government or contractor representatives to Kuwait.

There will be no adverse impact on U.S. defense readiness as a result of this proposed sale.

Transmittal No. 20-53

Notice of Proposed Issuance of Letter of Offer Pursuant to Section 36(b)(1) of the Arms Export Control Act

Annex

Item No. vii

(vii) Sensitivity of Technology:

1. The spares associated with this sale include unclassified and classified parts associated with the Patriot PAC-3 Configuration 3+. The parts will support sustainment of the critical components of the Patriot whose primary combat element is made up of a radar set, engagement control station, and launching stations. All classified spares in this sale are associated with the Patriot radar set.

2. The highest level of classification of defense articles, components, and services included in this potential sale is SECRET.

3. If a technologically advanced adversary were to obtain knowledge of the specific hardware and software elements associated with the Patriot missile system, the information could be used to develop countermeasures that might reduce weapon system effectiveness or be used in the development of a system with similar or advanced capabilities.

4. A determination has been made that the Government of Kuwait can provide substantially the same degree of protection for the sensitive technology being released as the U.S. Government. This sale is necessary in furtherance of the U.S. foreign policy and national security objectives outlined in the Policy Justification.

5. All defense articles and services listed in this transmittal have been authorized for release and export to the Government of Kuwait.

[FR Doc. 2021-00626 Filed 1-13-21; 8:45 am]

BILLING CODE 5001-06-P